DEPARTMENT OF TRANSPORTATION

Federal Aviation Administration

14 CFR Part 23

[Docket No. CE206; Special Conditions No. 23-146-SC]

Special Conditions: Cessna Aircraft Company; Cessna Model 182T/T182T Airplane; Installation of Electronic Flight Instrument System and the Protection of the System From High Intensity Radiated Fields (HIRF)

AGENCY: Federal Aviation Administration (FAA), DOT.

ACTION: Final special conditions; request for comments.

SUMMARY: These special conditions are issued for the Cessna Aircraft Company, Model 182T/T182T airplane. This airplane, as modified by Cessna Aircraft Company, will have a novel or unusual design feature(s) associated with the installation of a Garmin G1000 electronic flight instrument system and the protection of this system from the effects of high intensity radiated field (HIRF) environments. The applicable airworthiness regulations do not contain adequate or appropriate safety standards for this design feature. These special conditions contain the additional safety standards that the Administrator considers necessary to establish a level of safety equivalent to that established by the existing airworthiness standards.

DATES: The effective date of these special conditions is April 27, 2004. Comments must be received on or before June 10, 2004.

ADDRESSES: Comments on these special conditions may be mailed in duplicate to: Federal Aviation Administration, Regional Counsel, ACE-7, Attention: Rules Docket CE206, 901 Locust, Room 506, Kansas City, Missouri 64106; or delivered in duplicate to the Regional Counsel at the above address. Comments must be marked: CE206. Comments may be inspected in the Rules Docket weekdays, except Federal holidays, between 7:30 a.m. and 4 p.m.

FOR FURTHER INFORMATION CONTACT: Mr. Wes Ryan, Federal Aviation Administration, Aircraft Certification Service, Small Airplane Directorate, ACE-111, 901 Locust, Room 301, Kansas City, Missouri, 816-329-4127, fax 816-329-4090.

SUPPLEMENTARY INFORMATION: The FAA has determined that notice and opportunity for prior public comment hereon are impracticable because these procedures would significantly delay issuance of the approval design and thus delivery of the affected aircraft. In addition, the substance of these special conditions has been subject to the public comment process in several prior instances with no substantive comments received. The FAA therefore finds that good cause exists for making these special conditions effective upon issuance.

Comments Invited

Interested persons are invited to submit such written data, views, or arguments as they may desire. Communications should identify the regulatory docket or special condition number and be submitted in duplicate to the address specified above. All communications received on or before the closing date for comments will be considered by the Administrator. The special conditions may be changed in light of the comments received. All comments received will be available in the Rules Docket for examination by interested persons, both before and after the closing date for comments. A report summarizing each substantive public contact with FAA personnel concerning this rulemaking will be filed in the docket. Commenters wishing the FAA to acknowledge receipt of their comments submitted in response to this notice must include a self-addressed, stamped postcard on which the following statement is made: “Comments to CE206.” The postcard will be date stamped and returned to the commenter.

Background

On April 7, 2003, Cessna Aircraft Company applied for an amended type certificate for their new Cessna Model 182T to install a Garmin G1000 electronic flight instrument system with a primary flight display on the pilot side and a multifunction display in the center instrument panel. The Cessna Model 182T is single engine, high wing airplane capable of carrying four passengers.

The proposed modification incorporates a novel or unusual design feature, such as digital avionics consisting of an EFIS that may be vulnerable to HIRF external to the airplane.

Type Certification Basis

Under the provisions of 14 CFR 21.101, Cessna Aircraft Company must show that the Cessna Model 182T meets the following provisions or the applicable provisions in effect on the date of application for type certification of the Cessna 182T and T182T:

For the 182 Series:

Part 3 of the Civil Air Regulations dated November 1, 1949, as amended by 3-1 through 3-12 and Paragraph 3.112, as amended October 1, 1959, for the Model 182E and on. In addition, effective S/N 18266591 through 18268586, 14 CFR, part 23, § 23.1559, effective March 1, 1978; 14 CFR part 36, dated December 1, 1969, plus Amendments 36-1 through 36-6 for Model 182Q and on. In addition, effective S/N 18268435 through 18268486, 14 CFR, part 23, § 23.1545(a), Amendment 23-23, dated December 1, 1978; exemptions, if any, and the special conditions adopted by this rulemaking action.

For the Model T182:

Part 3 of the Civil Air Regulations dated November 1, 1949, as amended by 3-1 through 3-12 and Paragraph 3.112 as amended October 1, 1959; and 14 CFR, part 23, §§ 23.901, 23.909, 23.1041, 23.1043, 23.1143, and 23.1305, dated February 1, 1965, as amended February 14, 1975; 14 CFR, part 23, § 23.1559, effective March 1, 1978; 14 CFR, part 36, dated December 1, 1969; plus Amendments 36-1 through 36-10. In addition, effective S/N 18268435 through 18268541, 14 CFR, part 23, § 23.1545(a); Amendment 23-23, dated December 1, 1978; exemptions, if any, and the special conditions adopted by this rulemaking action.

If the Administrator finds that the applicable airworthiness regulations (i.e., 14 CFR part 23) do not contain adequate or appropriate safety standards for the Cessna Model 182T and T182T because of a novel or unusual design feature, special conditions are prescribed under the provisions of § 21.16.

Special conditions, as appropriate, as defined in § 11.19, are issued in accordance with § 11.38, and become part of the type certification basis in accordance with § 21.101(b)(2).

Special conditions are initially applicable to the model for which they are issued. Should the type certificate for that model be amended later to include any other model that incorporates the same novel or unusual design feature, the special conditions would also apply to the other model under the provisions of § 21.101(a).

Novel or Unusual Design Features

The Cessna Model 182T and Model T182T will incorporate the following novel or unusual design features:

A Garmin G1000 electronic flight instrument system (EFIS) and a primary flight display on the pilot side as well as a multifunction display in the center of the instrument panel.

Protection of Systems From High Intensity Radiated Fields (HIRF)

Recent advances in technology have given rise to the application in aircraft designs of advanced electrical and electronic systems that perform functions required for continued safe flight and landing. Due to the use of sensitive solid-state advanced components in analog and digital electronics circuits, these advanced systems are readily responsive to the transient effects of induced electrical current and voltage caused by HIRF. The HIRF can degrade electronic systems performance by damaging components or upsetting system functions.

Furthermore, the HIRF environment has undergone a transformation that was not foreseen when the current requirements were developed. Higher energy levels are radiated from transmitters that are used for radar, radio, and television. Also, the number of transmitters has increased significantly. There is also uncertainty concerning the effectiveness of airframe shielding for HIRF. Furthermore, coupling to cockpit-installed equipment through the cockpit window apertures is undefined.

The combined effect of the technological advances in airplane design and the changing environment has resulted in an increased level of vulnerability of electrical and electronic systems required for the continued safe flight and landing of the airplane. Effective measures against the effects of exposure to HIRF must be provided by the design and installation of these systems. The accepted maximum energy levels in which civilian airplane system installations must be capable of operating safely are based on surveys and analysis of existing radio frequency emitters. These special conditions require that the airplane be evaluated under these energy levels for the protection of the electronic system and its associated wiring harness. These external threat levels, which are lower than previous required values, are believed to represent the worst case to which an airplane would be exposed in the operating environment.

These special conditions require qualification of systems that perform critical functions, as installed in aircraft, to the defined HIRF environment in paragraph 1 or, as an option to a fixed value using laboratory tests, in paragraph 2, as follows:

(1) The applicant may demonstrate that the operation and operational capability of the installed electrical and electronic systems that perform critical functions are not adversely affected when the aircraft is exposed to the HIRF environment defined as follows:

Frequency | Field strength (volts per meter): Peak | Field strength (volts per meter): Average
10 kHz-100 kHz | 50 | 50
100 kHz-500 kHz | 50 | 50
500 kHz-2 MHz | 50 | 50
2 MHz-30 MHz | 100 | 100
30 MHz-70 MHz | 50 | 50
70 MHz-100 MHz | 50 | 50
100 MHz-200 MHz | 100 | 100
200 MHz-400 MHz | 100 | 100
400 MHz-700 MHz | 700 | 50
700 MHz-1 GHz | 700 | 100
1 GHz-2 GHz | 2000 | 200
2 GHz-4 GHz | 3000 | 200
4 GHz-6 GHz | 3000 | 200
6 GHz-8 GHz | 1000 | 200
8 GHz-12 GHz | 3000 | 300
12 GHz-18 GHz | 2000 | 200
18 GHz-40 GHz | 600 | 200
The field strengths are expressed in terms of peak root-mean-square (rms) values.

or,

(2) The applicant may demonstrate by a system test and analysis that the electrical and electronic systems that perform critical functions can withstand a minimum threat of 100 volts per meter, electrical field strength, from 10 kHz to 18 GHz. When using this test to show compliance with the HIRF requirements, no credit is given for signal attenuation due to installation.

A preliminary hazard analysis must be performed by the applicant, for approval by the FAA, to identify either electrical or electronic systems that perform critical functions. The term “critical” means those functions whose failure would contribute to, or cause, a failure condition that would prevent the continued safe flight and landing of the airplane. The systems identified by the hazard analysis that perform critical functions are candidates for the application of HIRF requirements. A system may perform both critical and non-critical functions. Primary electronic flight display systems, and their associated components, perform critical functions such as attitude, altitude, and airspeed indication. The HIRF requirements apply only to critical functions.

Compliance with HIRF requirements may be demonstrated by tests, analysis, models, similarity with existing systems, or any combination of these. Service experience alone is not acceptable since normal flight operations may not include an exposure to the HIRF environment. Reliance on a system with similar design features for redundancy as a means of protection against the effects of external HIRF is generally insufficient since all elements of a redundant system are likely to be exposed to the fields concurrently.

Applicability

As discussed above, these special conditions are applicable to the Cessna 182T and T182T airplanes. Should Cessna Aircraft Company apply later for a change to the type certificate to include another model incorporating the same novel or unusual design feature on the same type certification data sheet, the special conditions would apply to that model as well under the provisions of § 21.101(a).

Conclusion

This action affects only certain novel or unusual design features on the Model Cessna 182T and T182T airplanes. It is not a rule of general applicability and affects only the applicant who applied to the FAA for approval of these features on the airplane.

The substance of these special conditions has been subjected to the notice and comment period in several prior instances and has been derived without substantive change from those previously issued. It is unlikely that prior public comment would result in a significant change from the substance contained herein. For this reason, and because a delay would significantly affect the certification of the airplane, which is imminent, the FAA has determined that prior public notice and comment are unnecessary and impracticable, and good cause exists for adopting these special conditions upon issuance. The FAA is requesting comments to allow interested persons to submit views that may not have been submitted in response to the prior opportunities for comment described above.

List of Subjects in 14 CFR Part 23

Aircraft, Aviation safety, Signs and symbols.

Citation

The authority citation for these special conditions is as follows:

Authority: 49 U.S.C. 106(g), 40113 and 44701; 14 CFR 21.16 and 21.101; and 14 CFR 11.38 and 11.19.

The Special Conditions

Accordingly, pursuant to the authority delegated to me by the Administrator, the following special conditions are issued as part of the type certification basis for the Cessna 182T and T182T airplanes to include a Garmin G1000 EFIS system.

1. Protection of Electrical and Electronic Systems from High Intensity Radiated Fields (HIRF). Each system that performs critical functions must be designed and installed to ensure that the operations, and operational capabilities of these systems to perform critical functions are not adversely affected when the airplane is exposed to high intensity radiated electromagnetic fields external to the airplane.

2. For the purpose of these special conditions, the following definition applies: Critical Functions: Functions whose failure would contribute to, or cause, a failure condition that would prevent the continued safe flight and landing of the airplane.

Issued in Kansas City, Missouri on April 27, 2004.
Dorenda D. Baker,
Manager, Small Airplane Directorate, Aircraft Certification Service.

[FR Doc. 04-10690 Filed 5-10-04; 8:45 am]

BILLING CODE 4910-13-P